DEPARTMENT OF VETERANS AFFAIRS

38 CFR Part 5

RIN 2900-AL71

Accrued Benefits, Death Compensation, and Special Rules Applicable Upon Death of a Beneficiary

Correction

In proposed rule document 04-21541 beginning on page 59072 in the issue of Friday, October 1, 2004, make the following correction:

§ 5.570 [Corrected]

On page 59091, in § 5.570, in the first column, in the section heading, ““surviving spouses” should read “—surviving spouses”.

[FR Doc. C4-21541 Filed 10-20-04; 8:45 am]

BILLING CODE 1505-01-D